INTERNATIONAL TRADE COMMISSION

[Investigation Nos. 701-TA-442 and 731-TA-1095-1096 (Second Review)]

Lined Paper School Supplies From China and India; Amended Schedule for Expedited Reviews

AGENCY: United States International Trade Commission.

ACTION: Notice.

DATES: October 27, 2017.

FOR FURTHER INFORMATION CONTACT: Calvin Chang (202-205-3062), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On October 6, 2017, the Commission established a schedule for conducting expedited reviews on lined paper school supplies from China and India. On October 26, 2017, the schedule was published in the Federal Register (82 FR 49659). This notice corrects several dates in the previously-published schedule. In particular, the staff report containing information concerning the subject matter of the review will be placed in the nonpublic record on January 3, 2018 and made available to persons on the Administrative Protective Order service list for this review. Comments pursuant to section 207.62(d) of the Commission's rules are due on or before January 9, 2018.

The Commission has determined that these reviews are extraordinarily complicated and therefore has determined to exercise its authority to extend the review period by up to 90 days pursuant to 19 U.S.C. 1675(c)(5)(B).

For further information concerning these investigations see the Commission's notice cited above.

Authority: These investigations are being conducted under authority of title VII of the Tariff Act of 1930; this notice is published pursuant to section 207.21 of the Commission's rules.

By order of the Commission.
Issued: November 1, 2017.
Lisa R. Barton,
Secretary to the Commission.

[FR Doc. 2017-24174 Filed 11-6-17; 8:45 am]

BILLING CODE 7020-02-P